INTERNATIONAL TRADE COMMISSION

[Investigation Nos. 701-TA-590 and 731-TA-1397-98 (Preliminary)]

Sodium Gluconate, Gluconic Acid, and Derivative Products From China and France

Determinations

On the basis of the record ¹ developed in the subject investigations, the United States International Trade Commission (“Commission”) determines, pursuant to the Tariff Act of 1930 (“the Act”), that there is a reasonable indication that an industry in the United States is threatened with material injury by reason of imports of sodium gluconate, gluconic acid, and derivative products from China, provided for in subheadings 2918.16.10, 2918.16.50 and 2932.20.50 of the Harmonized Tariff Schedule of the United States, that are alleged to be sold in the United States at less than fair value (“LTFV”) and to be subsidized by the government of China. The Commission further determines that there is no reasonable indication that an industry in the United States is materially injured or threatened with material injury by reason of imports of sodium gluconate, gluconic acid, and derivative products from France that are alleged to be sold in the United States at LTFV.²

¹ The record is defined in sec. 207.2(f) of the Commission's Rules of Practice and Procedure (19 CFR 207.2(f)).

² Chairman Rhonda K. Schmidtlein dissenting. Chairman Schmidtlein determines that there is a reasonable indication that an industry in the United States is materially injured by reason of imports of the subject product from China and France.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On November 30, 2017, PMP Fermentation Products, Inc., Peoria, Illinois, filed a petition with the Commission and Commerce, alleging that an industry in the United States is materially injured or threatened with material injury by reason of LTFV and subsidized imports of sodium gluconate, gluconic acid, and derivative products from China and LTFV imports of sodium gluconate, gluconic acid, and derivative products from France. Accordingly, effective November 30, 2017, the Commission, pursuant to sections 703(a) and 733(a) of the Act (19 U.S.C. 1671b(a) and 1673b(a)), instituted countervailing duty investigation No. 701-TA-590 and antidumping duty investigation Nos. 731-TA-1397-98 (Preliminary).

Notice of the institution of the Commission's investigations and of a public conference to be held in connection therewith was given by posting copies of the notice in the Office of the Secretary, U.S. International Trade Commission, Washington, DC, and by publishing the notice in the Federal Register of December 6, 2017 (82 FR 57614). The conference was held in Washington, DC, on December 21, 2017, and all persons who requested the opportunity were permitted to appear in person or by counsel.

The Commission made these determinations pursuant to sections 703(a) and 733(a) of the Act (19 U.S.C. 1671b(a) and 1673b(a)). It completed and filed its determinations in these investigations on January 16, 2018. The views of the Commission are contained in USITC Publication 4756 (January 2018), entitled Sodium Gluconate, Gluconic Acid, and Derivative Products from China and France: Investigation Nos. 701 TA-590 and 731-TA-1397-98 (Preliminary).

By order of the Commission.
Issued: January 16, 2018.
Lisa R. Barton,
Secretary to the Commission.

[FR Doc. 2018-00984 Filed 1-19-18; 8:45 am]

BILLING CODE 7020-02-P